DEPARTMENT OF VETERANS AFFAIRS

[OMB Control No. 2900-0668]

Agency Information Collection Activity: Supplemental Income Questionnaire (For Philippine Claims Only); Withdrawn

AGENCY: Veterans Benefits Administration, Department of Veterans Affairs.

ACTION: Notice; withdrawal.

SUMMARY: On Monday, February 26, 2024, the Veterans Benefits Administration (VA), published a notice in the Federal Register announcing an opportunity for public comment on the proposed collection Supplemental Income Questionnaire (For Philippine Claims Only). This notice was published in error; therefore, this document corrects that error by withdrawing this FR notice, document number 2024-03764.

DATES: As of Tuesday, February 27, 2024, the FR notice published at 89 FR 14153 on Monday, February 26, 2024, is withdrawn.

FOR FURTHER INFORMATION CONTACT: Maribel Aponte, Office of Enterprise and Integration, Data Governance Analytics (008), 810 Vermont Ave. NW, Washington, DC 20006, (202) 266-4688 or email maribel.aponte@va.gov.

SUPPLEMENTARY INFORMATION: FR Doc. 2024-03764, published on Monday, February 26, 2024, is withdrawn by this notice.

By direction of the Secretary.
Maribel Aponte,
VA PRA Clearance Officer, Office of Enterprise and Integration/Data Governance Analytics, Department of Veterans Affairs.

[FR Doc. 2024-04406 Filed 3-1-24; 8:45 am]

BILLING CODE 8320-01-P